DEPARTMENT OF COMMERCE

International Trade Administration

[A-580-815 and A-580-816]

Notice of Final Results of Antidumping Duty Administrative Reviews: Certain Cold-Rolled and Corrosion-Resistant Carbon Steel Flat Products From Korea

AGENCY: Import Administration, International Trade Administration, Department of Commerce.

ACTION: Notice of final results of antidumping duty administrative reviews.

SUMMARY: On September 11, 2001, the Department of Commerce (“Department”) published the preliminary results of the administrative reviews of the antidumping duty orders on certain cold-rolled and corrosion-resistant carbon steel flat products from Korea. The corrosion-resistant carbon steel flat products review covers four manufacturers and exporters of the subject merchandise, while the cold-rolled carbon steel flat products review covers three. The period of review for cold-rolled products is August 1, 1999 through December 31, 1999, and the period of review for corrosion-resistant products is August 1, 1999 through July 31, 2000.

Based on our analysis of the comments received, we have made changes in the margin calculations. Therefore, the final results differ from the preliminary results. The final weighted-average dumping margins for the reviewed firms are listed below in the section entitled “Final Results of the Reviews.”

EFFECTIVE DATE: March 15, 2002.

FOR FURTHER INFORMATION CONTACT: Robert Bolling (POSCO), Marlene Hewitt (Dongbu), Sara Ellerman (SeAH) and Mesbah Motamed (Union), or James Doyle, Enforcement Group III, Office 9, Import Administration, International Trade Administration, U.S. Department of Commerce, 1401 Constitution Avenue, NW., Washington, DC 20230, telephone 202-482-3434 (Bolling), 202-482-1385 (Hewitt), 202-482-6134 (Ellerman), 202-482-1382 (Motamed) or 202-482-0159 (Doyle), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (2001).

Background

The Department published antidumping duty orders on certain cold-rolled and corrosion-resistant carbon steel flat products from Korea on August 19, 1993. See Antidumping Duty Orders on Certain Cold-Rolled Carbon Steel Flat Products and Certain Corrosion-Resistant Carbon Steel Flat Products from Korea, 58 FR 44159 (August 19, 1993). On August 16, 2000, the Department published a notice of “Opportunity to Request an Administrative Review” of the antidumping duty orders for the 1999-2000 review period. See Notice of Opportunity to Request Administrative Review of Antidumping or Countervailing Duty Order, Finding, or Suspended Investigation, 65 FR 49962 (August 16, 2000). On August 31, 2000, respondents Pohang Coated Steel Co., Ltd. (“POCOS”), and Pohang Steel Industries Co., Ltd. (“PSI”)—(collectively, “the POSCO Group”), Dongbu Steel Co., Ltd (“Dongbu”), and Union Steel Manufacturing Co., Ltd. (“Union”) requested that the Department conduct an administrative review of the antidumping duty orders on cold-rolled carbon steel flat products from Korea. In a separate letter on August 31, 2000, POSCO also requested partial revocation of the antidumping duty order of cold-rolled carbon steel flat products. On August 31, 2000, respondents Dongbu, Union, POSCO and SeAH Steel Corporation (“SeAH”) requested that the Department conduct an administrative review of the antidumping duty orders on corrosion-resistant carbon steel flat products. On August 31, 2000, petitioners in the original less-than-fair-value (“LTFV”) investigations (AK Steel Corporation; Bethlehem Steel Corporation; Inland Steel Industries, Inc.; LTV Steel Company; National Steel Corporation; and U.S. Steel Group, a Unit of USX Corporation) requested that the Department conduct administrative reviews of the antidumping duty orders on cold-rolled and corrosion-resistant carbon steel flat products from Korea: the cold-rolled respondents; Dongbu, POSCO, and Union; and the corrosion-resistant respondents; Dongbu, POSCO, SeAH, and Union. We initiated these reviews on September 26, 2000. See Initiation of Antidumping and Countervailing Duty Administrative Reviews and Requests for Revocation in Part, 65 FR 58733 (October 2, 2000).

The Department revoked the antidumping order on cold-rolled carbon steel flat products from Korea pursuant to section 751(d)(2) of the Act and 19 CFR 351.222(i) of the Department's regulations, effective January 1, 2000. See Revocation of Antidumping and Countervailing Duty Orders on Certain Carbon Steel Products From Canada, Germany, Korea, the Netherlands, and Sweden, 65 FR 78467 (December 15, 2000). The resulting POR for cold-rolled products is August 1, 1999 through December 31, 1999. The Department's revocation of the antidumping order for cold-rolled products renders POSCO's request for revocation moot.

On August 31, 2001, the Department issued the preliminary results of these administrative reviews. See Certain Cold-Rolled and Corrosion-Resistant Carbon Steel Flat Products From the Republic of Korea; Preliminary Results of Antidumping Duty Administrative Review 66 FR 47163, (September 11, 2001). The Department has completed these administrative reviews in accordance with section 751 of the Act.

On December 7, 2001 petitioners submitted case briefs for Union and Dongbu. Union, Dongbu, and SeAH also submitted case briefs on the same day. On December 14, 2001, petitioners submitted rebuttal briefs for Union and Dongbu, and Union and Dongbu submitted their own rebuttal briefs. On February 8, 2002, petitioners submitted comments for POSCO. POSCO submitted case briefs on the same day. On February 13, 2002, petitioners submitted rebuttal briefs for POSCO, and POSCO submitted its own rebuttal briefs.

Scope of the Reviews

The review of “certain cold-rolled carbon steel flat products” covers cold-rolled (cold-reduced) carbon steel flat-rolled products, of rectangular shape, neither clad, plated nor coated with metal, whether or not painted, varnished or coated with plastics or other nonmetallic substances, in coils (whether or not in successively superimposed layers) and of a width of 0.5 inch or greater, or in straight lengths which, if of a thickness less than 4.75 millimeters, are of a width of 0.5 inch or greater and which measures at least 10 times the thickness, or if of a thickness of 4.75 millimeters or more are of a width which exceeds 150 millimeters and measures at least twice the thickness, as currently classifiable in the Harmonized Tariff Schedule (“HTS”) under item numbers 7209.15.0000, 7209.16.0030, 7209.16.0060, 7209.16.0090, 7209.17.0030, 7209.17.0060, 7209.17.0090, 7209.18.1530, 7209.18.1560, 7209.18.2550, 7209.18.6000, 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7215.50.0015, 7215.50.0060, 7215.50.0090, 7215.90.5000, 7217.10.1000, 7217.10.2000, 7217.10.3000, 7217.10.7000, 7217.90.1000, 7217.90.5030, 7217.90.5060, 7217.90.5090. Included in this review are flat-rolled products of nonrectangular cross-section where such cross-section is achieved subsequent to the rolling process (i.e., products which have been “worked after rolling”)—for example, products which have been beveled or rounded at the edges. Excluded from this review is certain shadow mask steel, i.e., aluminum-killed, cold-rolled steel coil that is open-coil annealed, has a carbon content of less than 0.002 percent, is of 0.003 to 0.012 inch in thickness, 15 to 30 inches in width, and has an ultra flat, isotropic surface.

The review of “certain corrosion-resistant carbon steel flat products” covers flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the HTS under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this review are flat-rolled products of non-rectangular cross-section where such cross-section is achieved subsequent to the rolling process (i.e., products which have been “worked after rolling”)—for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

These HTS item numbers are provided for convenience and U.S. Customs purposes. The written descriptions remain dispositive.

Verification

From January 23 through January 25, 2002, the Department conducted a verification at the offices of POSCO in Pohang, Korea. For a description of the Department's findings, see Memorandum from Catherine Bertrand to James Doyle, dated February 5, 2002.

Analysis of Comments Received

All issues raised in the case and rebuttal briefs by parties to these administrative reviews are addressed in the “Issues and Decision Memorandum” (“Decision Memo”) from Joseph A. Spetrini, Deputy Assistant Secretary for Import Administration to Faryar Shirzad, Assistant Secretary for Import Administration, dated March 11, 2002, which is hereby adopted by this notice. A list of the issues which parties have raised and to which we have responded, all of which are in the Decision Memo, is attached to this notice as an Appendix. Parties can find a complete discussion of all issues raised in these reviews and the corresponding recommendations in this public memorandum which is on file at the U.S. Department of Commerce, in the Central Records Unit, in room B-099. In addition, a complete version of the Decision Memo, accessible in B-099 and on the Web at http://ia.ita.doc.gov. The paper copy and electronic version of the Decision Memorandum are identical in content.

Sales Below Cost in the Home Market

As discussed in more detail in the Preliminary Results, the Department disregarded home market below-cost sales that failed the cost test for POSCO, Dongbu, and Union in these final results of review.

Changes Since the Preliminary Results

Based on our analysis of comments received, we have made certain changes in the margin calculations. We have also corrected certain programming and clerical errors in our preliminary results, where applicable. Any alleged programming or clerical errors with which we do not agree are discussed in the relevant sections of the Decision Memo, accessible in B-099 and on the Web at http://ia.ita.doc.gov. A summary of these adjustments is discussed below:

1. We adjusted respondents' indirect selling expense factors with respect to the deduction of imputed credit expense. See Comment 1 of the Decision Memo.

2. We additionally adjusted POSCO's indirect selling expense factor by disallowing its claimed long-term interest income offset. See Comment 2 of the Decision Memorandum.

3. We are excluding overruns from the calculation of Union's normal value. See Comment 7 of the Decision Memorandum.

Final Results of the Reviews

We determine that the following percentage weighted-average margins exist for the reviewed companies during the period August 1, 1999, through December 31, 1999 (for cold-rolled products) or August 1, 1999, through July 31, 2000 (for corrosion resistant products):

Certain Cold-Rolled Carbon Steel Flat Products
Producer/Manufacturer/Exporter | Weighted-average margin
Dongbu | 4.09
The POSCO Group | 3.06
Union | 1.05

Certain Corrosion-Resistant Carbon Steel Flat Products
Producer/Manufacturer/Exporter | Weighted-average margin
Dongbu | 0.26
SeAH | 0
The POSCO Group | 0.64
Union | 1.31

The Department shall determine, and the U.S. Customs Service (“Customs”) shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant order during the review period.

Cash Deposit Requirements

The following deposit requirements will be effective upon publication of this notice of final results of administrative reviews for all shipments of cold-rolled and corrosion-resistant carbon steel flat products from Korea entered, or withdrawn from warehouse, for consumption on or after the date of publication, as provided by section 751(a)(1) of the Act: (1) The cash deposit rates for the reviewed companies will be the rates shown above except that, for firms whose weighted-average margins are less than 0.5 percent and therefore de minimis, the Department shall require no deposit of estimated antidumping duties; (2) for previously reviewed or investigated companies not listed above, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be 17.70 percent (for certain corrosion-resistant carbon steel flat products). This rate is the “all others” rates from the LTFV investigation. See Antidumping Duty Orders on Certain Cold-Rolled Carbon Steel Flat Products and Certain Corrosion-Resistant Carbon Steel Flat Products from Korea, 58 FR 44159 (August 19, 1993). As the Department revoked the anti-dumping order on cold-rolled carbon steel flat products from Korea pursuant to section 751(d)(2) of the Act, effective January 1, 2000, there is no longer suspension of liquidation or cash deposit requirements for entries of that merchandise.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: March 11, 2002.
Faryar Shirzad,
Assistant Secretary for Import Administration.

Appendix

Issues in Decision Memorandum

Comments and Responses

General Comments

1. Calculation of Indirect Selling Expenses.

Company-Specific Comments

Pohang Iron and Steel Co., Ltd. (“POSCO”), Pohang Coated Steel Co., Ltd. (“POCOS”), and Pohang Steel Industries Co., Ltd. (“PSI”) (collectively, “POSCO Group”)

2. Long-term Interest Income Offset

3. Calculation of Total Sales in the Indirect Selling Expense Ratio Denominator

4. Home Market Credit

5. Overruns

Dongbu Steel Co., Ltd. (“Dongbu”)

6. Allocation of U.S. Indirect Selling Expenses

Union Steel Manufacturing Co., Ltd. (“Union”)

7. Inclusion of Overruns in the Calculation of Normal Value.

[FR Doc. 02-6474 Filed 3-15-02; 8:45 am]

BILLING CODE 3510-DS-P